DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed three-year extension of the OMB expiration date for Forms: NWPA-830 ‘Appendix C—Delivery Commitment Schedule’, NWPA-830 ‘Appendix G—Standard Remittance Advice for Payment of Fees (including Annexes A and B).’

DATES: Comments must be filed by February 21, 2006. If you anticipate difficulty in submitting comments within that period, contact the person listed below as soon as possible.

ADDRESSES: Send comments to Jim Finucane. To ensure receipt of the comments by the due date, submission by FAX (202-287-1934) or e-mail jim.finucane@eia.doe.gov is recommended. The mailing address is Office of Coal, Nuclear, Electric and Alternate Fuels, EI-52, Forrestal Building, U.S. Department of Energy, Washington, DC 20585-0650. Alternatively, Mr. Finucane may be reached by telephone at 202-287-1966.

FOR FURTHER INFORMATION CONTACT: Requests for additional information or copies of any forms and instructions should be directed to Mr. Finucane at the address listed above.

SUPPLEMENTARY INFORMATION:

I. Background

II. Current Actions

III. Request for Comments

I. Background

The Federal Energy Administration Act of 1974 (Pub. L. 93-275, 15 U.S.C. 761 et seq.) and the Department of Energy Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(h) of the Paperwork Reduction Act of 1995.

Appendix C, Form NWPA-830, ‘Delivery Commitment Schedule, (DCS)’ is designed to allow companies purchasing nuclear waste disposal services from the DOE to identify the number of assemblies, including their initial uranium loading, the range of discharge dates, and the mode of transportation, along with the year that the purchaser proposes that the DOE take delivery. This information is required at a point in time at least 63 months before expected transfer to the DOE. The DCS provides purchasers with the opportunity to inform DOE of their plans for utilizing their allocations of projected Federal Waste Management System capacity. NWPA-830 ‘Appendix G—Standard Remittance Advice for Payment of Fees’, and ‘Annex A and Annex B to Appendix G—Standard Remittance Advice for Payment of Fees’ are designed to serve as the source document for entries into DOE accounting records to transmit data from Purchasers to the DOE concerning payment of their fees for spent nuclear fuel and high-level waste disposal into the Nuclear Waste Fund. The Remittance Advice (RA) must be submitted by Purchasers who signed the Standard Contract for Disposal of Spent Nuclear Fuel and/or High-Level Radioactive Waste with the DOE.

II. Current Actions

The current proposed action is a three-year extension of two existing data collections. This is a request for comments on EIA's proposal to request this three-year extension of approval to continue collecting information with Forms NWPA-830, the ‘Appendix C—Delivery Commitment Schedule,' and the NWPA-830 ‘Appendix G—Standard Remittance Advice for Payment of Fees’ with no change to the existing collections.

III. Request for Comments

Prospective respondents and other interested parties should comment on the actions discussed in item II. The following guidelines are provided to assist in the preparation of comments. Please indicate to which form(s) your comments apply.

General Issues

A. Are the proposed collections of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden to complete Form NWPA-830C, the estimated burden per response is 2 hours. To complete Form NWPA-830G the average time per response is five and one half hours. The data for the Form NWPA-830G is collected quarterly. The estimated burden includes the total time necessary to provide the requested information. In your opinion, how accurate is this estimate?

E. The agency estimates that the only cost to a respondent is for the time it will take to complete the collection. Will a respondent incur start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential Data User of the Information To Be Collected:

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Sections 3507(h)(1) of the Paperwork Reduction Act of 1995 (Pub. L. No. 104-13, 44 U.S.C. Chapter 35).

Issued in Washington, DC, December 14, 2005.
Jay H. Casselberry,
Agency Clearance Officer, Energy Information Administration.

[FR Doc. E5-7611 Filed 12-20-05; 8:45 am]

BILLING CODE 6450-01-P